LEGAL SERVICES CORPORATION

Request for Comments—Fiscal Oversight Task Force Report and Recommendations

AGENCY: Legal Services Corporation.

ACTION: Request for comments.

SUMMARY: The Legal Services Corporation (“LSC”) Board of Directors (“Board”) seeks public comment on the July 28, 2011 Report of the Fiscal Oversight Task Force, which reviewed and made recommendations regarding how LSC conducts fiscal oversight of its grantees.

DATES: Written comments will be accepted for thirty (30) days from that date of this publication.

ADDRESSES: Written comments may be submitted by mail, fax, or e-mail to Rebecca D. Weir, Assistant General Counsel, Legal Services Corporation, 3333 K Street, NW., Washington, DC 20007; 202.295.1618 (phone); 202.337.6519 (fax); rweir@lsc.gov. Comments may also be submitted online at http://www.lsc.gov/about/mattersforcomment.php.

FOR FURTHER INFORMATION CONTACT: Rebecca D. Weir, Assistant General Counsel, Legal Services Corporation, 3333 K Street, NW., Washington, DC 20007; 202.295.1618 (phone); 202.337.6519 (fax); rweir@lsc.gov.

SUPPLEMENTARY INFORMATION: LSC was established by the United States Congress “for the purpose of providing financial support for legal assistance in noncriminal matters or proceedings to persons financially unable to afford such assistance.” 42 U.S.C. 2996b(a). LSC performs this function by awarding grants to legal aid programs that provide civil legal services to low-income persons throughout the United States and its possessions and territories.

By Resolution adopted on July 21, 2010, the Board established the Fiscal Oversight Task Force (“FOTF”), comprised of seventeen distinguished professionals, “to undertake a review of and make recommendations to the Board regarding LSC's fiscal oversight * * * of its grantees.” On August 1, 2011, the FOTF presented a report of its findings and recommendations, Fiscal Oversight Task Force Report to the Board of Directors (July 28, 2011) (“FOTF Report”), to the Board at a briefing held for that purpose. The Board subsequently directed LSC Management to publish the FOTF Report in the Federal Register for a 30-day public comment period.

The FOTF Report can be found at http://www.lsc.gov/pdfs/FiscalOversightTaskForceFINALReport.PDF. Interested parties are encouraged to submit comments on the FOTF Report, especially with regard to its recommendations, and may do so by mail, fax, or e-mail to Rebecca D. Weir, Assistant General Counsel, Legal Services Corporation, 3333 K Street, NW., Washington, DC 20007; 202.295.1618 (phone); 202.337.6519 (fax); rweir@lsc.gov. Comments may also be submitted online at http://www.lsc.gov/about/mattersforcomment.php. Comments will be accepted for a period of 30 days from the date of publication of this notice. The Board anticipates meeting in October of 2011 to consider the FOTF Report and any public comments received.

Notice: LSC will post any comments received at http://www.lsc.gov. Such comments are also subject to disclosure under FOIA. Personally identifiable information such as phone numbers and addresses may be redacted upon request.

Dated: August 25, 2011.
Victor M. Fortuno,
Vice President and General Counsel.

[FR Doc. 2011-22215 Filed 8-30-11; 8:45 am]

BILLING CODE 7050-01-P